DEPARTMENT OF TRANSPORTATION

Federal Aviation Administration

14 CFR Part 71

[Docket No. FAA-2023-0214; Airspace Docket No. 23-AEA-05

Amendment of Class D Airspace, Revocation of Class D Airspace, and Amendment of Class E Airspace, Harrisburg, PA

AGENCY: Federal Aviation Administration (FAA), DOT.

ACTION: Notice of proposed rulemaking (NPRM).

SUMMARY: This action proposes to amend Class D airspace, remove Class D airspace, amend Class E surface airspace, and amend Class E airspace designated as an extension to a Class D surface area at Capital City Airport, Harrisburg, PA. In addition, this action would make administrative updates.

DATES: Comments must be received on or before September 28, 2023.

ADDRESSES: Send comments identified by FAA Docket No. FAA-2023-0214 and Airspace Docket No. 23-AEA-05 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC between 9 a.m. and 5 p.m., Monday through Friday, except for Federal holidays.

* Fax: Fax comments to Docket Operations at (202) 493-2251.

Docket: Background documents or comments received may be read at www.regulations.gov anytime. Follow the online instructions for accessing the docket or go to the Docket Operations in Room W12-140 of the West Building Ground Floor at 1200 New Jersey Avenue SE, Washington, DC, between 9 a.m. and 5 p.m., Monday through Friday, except for Federal holidays.

FAA Order JO 7400.11G Airspace Designations and Reporting Points and subsequent amendments can be viewed online at www.faa.gov/air_traffic/publications/. For further information, contact the Rules and Regulations Group, Federal Aviation Administration, 800 Independence Avenue SW, Washington, DC 20591; telephone: (202) 267-8783.

FOR FURTHER INFORMATION CONTACT: John Goodson, Operations Support Group, Eastern Service Center, Federal Aviation Administration, 1701 Columbia Avenue, College Park, GA 30337; telephone (404) 305-5966.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend Class D airspace, remove Class D airspace for Harrisburg International Airport, amend Class E surface airspace, and remove Class E airspace designated as an extension for a Class D surface area for Capital City Airport, Harrisburg, PA, as well as update the geographic coordinates of the airport and out of date terms for Harrisburg, PA.

Comments Invited

The FAA invites interested persons to participate in this rulemaking by submitting written comments, data, or views. Comments are specifically invited on the proposal's overall regulatory, aeronautical, economic, environmental, and energy-related aspects. The most helpful comments reference a specific portion of the proposal, explain the reason for any recommended change, and include supporting data. To ensure the docket does not contain duplicate comments, commenters should submit only once if comments are filed electronically, or commenters should send only one copy of written comments if comments are filed in writing.

The FAA will file in the docket all comments it receives and a report summarizing each substantive public contact with FAA personnel concerning this proposed rulemaking. Before acting on this proposal, the FAA will consider all comments it receives on or before the closing date for comments. The FAA will consider comments filed after the comment period has closed if it is possible without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of NPRMs

An electronic copy of this document may be downloaded through the internet at www.regulations.gov. Recently published rulemaking documents can be accessed through the FAA's web page at www.faa.gov/air_traffic/publications/airspace_amendments/.

You may review the public docket containing the proposal, any comments received, and any final disposition in person in the Dockets Office (see the ADDRESSES section for address and phone number) between 9:00 a.m. and 5:00 p.m., Monday through Friday, except for Federal holidays. An informal docket may also be examined between 8:00 a.m. and 4:30 p.m., Monday through Friday, except for Federal holidays at the office of the Eastern Service Center, Federal Aviation Administration, Room 350, 1701 Columbia Avenue, College Park, GA 30337.

Incorporation by Reference

Class D airspace and Class E airspace designations are published in Paragraphs 5000, 6002, and 6004 of FAA Order JO 7400.11, which is incorporated by reference in 14 CFR 71.1 annually. This document proposes to amend the current version of that order, FAA Order JO 7400.11G, dated August 19, 2022, and effective September 15, 2022. These updates would subsequently be published in the next FAA Order JO 7400.11 update. FAA Order JO 7400.11G is publicly available as listed in the ADDRESSES section of this document. FAA Order JO 7400.11G lists Class A, B, C, D, and E airspace areas, air traffic service routes, and reporting points.

The Proposal

The FAA proposes an amendment to 14 CFR part 71 by:

Amending the Class D airspace for Capital City Airport, Harrisburg, PA, by removing excessive verbiage from the description header per order FAA 7400.2. Also, this action would add the Harrisburg International Airport to the Class D description header and legal description since it's used in describing the Class D airspace. In addition, this action would update the geographical coordinates of the airport to coincide with the FAA's database. Also, the legal description of the Capital City Airport would be amended to that airspace extending upward from the surface up to but not including 1,600 MSL beginning at the intersection of the Capital City Airport's 106° bearing and 1.5- mile radius direct to Lat 40°14′13″ N, long 76°53′23″ W direct to the intersection of the Capital City Airport's 287° bearing and Capital City Airport's 4-mile radius, thence clockwise along the Capital City Airport's 4-mile radius to the intersection of the Harrisburg International Airport's 5-mile radius, thence counterclockwise along the Harrisburg International Airport's 5-mile radius to the intersection of the Capital City Airport's 1.5-mile radius, thence clockwise along the Capital City Airport's 1.5-mile radius to the point of beginning; and that airspace extending upward from the surface up to but not including 2,600 feet MSL beginning at a line bearing 191° from a point at Lat. 40°12′23″ N, long 76°48′37″ W, extending from said point to the point of intersection with the Capital City Airport's 4-mile radius, thence clockwise along the Capital City Airport's 4-mile radius to the intersection of the Capital City Airport's 287° bearing, thence direct to Lat 40°14′13″ N, long 76°53′23″ W, thence direct to the point of beginning. Also, this action would make the editorial changes replacing the terms Notice to Airmen with Notice to Air Missions and Airport/Facility Directory with Chart Supplement.

The Class D airspace listed under the header Harrisburg International Airport, Harrisburg, PA, would be removed as it is no longer required due to the establishment of Harrisburg International Airport's Class C airspace.

The Class E surface airspace for Capital City Airport, Harrisburg, PA, would be amended by removing excessive verbiage in the description header per order FAA 7400.2. Also, this action would add the Harrisburg International Airport to the Class E surface airspace description header and legal description since it is used in describing the Class E surface airspace. In addition, this action would amend the airport's geographical coordinates to coincide with the FAA's database. Also, the legal description of the Capital City Airport would be amended to that airspace extending upward from the surface beginning at a line bearing 191° from a point at Lat. 40°12′23″ N, long 76°48′37″ W, extending from said point to the point of intersection with the Capital City Airport's 4-mile radius, thence clockwise along the Capital City Airport's 4-mile radius to the intersection of the Harrisburg International Airport's 5-mile radius, thence counterclockwise along the Harrisburg International Airport's 5-mile radius to the intersection of the Capital City Airport's 1.5-mile radius, thence clockwise along the Capital City Airport's 1.5-mile radius to the intersection of the Capital City Airport's 1.5-mile radius and the Capital City Airport's 106° bearing, thence direct Lat. 40°12′23″ N, long 76°48′37″ W. This action would also remove the extension to the southwest as it is unnecessary (the Class E airspace designated as an extension to a Class D surface area includes this airspace). Also, this action would make the editorial changes replacing the terms Notice to Airmen with Notice to Air Missions and Airport/Facility Directory with Chart Supplement.

The Class E airspace designated as an extension to a Class D surface area for Capital City Airport would be amended by removing excessive verbiage in the description header per order FAA 7400.2 and updating the airport's geographical coordinates to coincide with the FAA's database. In addition, the references using runways and miles off the runways would be replaced with the bearings and mileage from the airport reference point; the legal description would be amended to that airspace extending upward from the surface within 1.8 miles on each side of the Capital City Airport's 251° bearing extending from the airport's 4-mile radius to 7.5 miles southwest of the airport. Also, excessive verbiage in the legal description would be removed since it is unnecessary.

Controlled airspace is necessary for the area's safety and management of instrument flight rules (IFR) operations. This action is necessary to support IFR operations in the area.

Regulatory Notices and Analyses

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

Lists of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

AEA PA D Harrisburg, PA [Amended]

Capital City Airport, PA

(Lat 40°13′02″ N, long 76°51′05″ W)

Harrisburg International Airport, PA

(Lat 40°11′35″ N, long 76°45′45″ W)

That airspace extending upward from the surface up to but not including 1,600 MSL beginning at the intersection of the Capital City Airport's 106° bearing and 1.5- mile radius direct to Lat 40°14′13″ N, long 76°53′23″ W direct to the intersection of the Capital City Airport's 287° bearing and Capital City Airport's 4-mile radius, thence clockwise along the Capital City Airport's 4-mile radius to the intersection of the Harrisburg International Airport's 5-mile radius, thence counterclockwise along the Harrisburg International Airport's 5-mile radius to the intersection of the Capital City Airport's 1.5-mile radius, thence clockwise along the Capital City Airport's 1.5-mile radius to the point of beginning; and that airspace extending upward from the surface up to but not including 2,600 feet MSL beginning at a line bearing 191° from a point at Lat. 40°12′23″ N, long 76°48′37″ W, extending from said point to the point of intersection with the Capital City Airport's 4-mile radius, thence clockwise along the Capital City Airport's 4-mile radius to the intersection of the Capital City Airport's 287° bearing, thence direct to Lat 40°14′13″ N, long 76°53′23″ W, thence direct to the point of beginning. This Class D airspace area is effective during the specific dates and times established in advance by a Notice to Air Missions. The effective date and time will thereafter be continuously published in the Chart Supplement.

* * * * *

AEA PA D Harrisburg International Airport, PA [Removed]

Paragraph 6002 Class E Surface Airspace.

* * * * *

AEA PA E2 Harrisburg, PA [Amended]

Capital City Airport, PA

(Lat 40°13′02″ N, long 76°51′05″ W)

Harrisburg International Airport, PA

(Lat 40°11′35″ N, long 76°45′45″ W)

That airspace extending upward from the surface beginning at a line bearing 191° from a point at Lat. 40°12′23″ N, long 76°48′37″ W, extending from said point to the point of intersection with the Capital City Airport's 4-mile radius, thence clockwise along the Capital City Airport's 4-mile radius to the intersection of the Harrisburg International Airport's 5-mile radius, thence counterclockwise along the Harrisburg International Airport's 5-mile radius to the intersection of the Capital City Airport's 1.5-mile radius, thence clockwise along the Capital City Airport's 1.5-mile radius to the intersection of the Capital City Airport's 1.5-mile radius and the Capital City Airport's 106° bearing, thence direct Lat. 40°12′23″ N, long 76°48′37″ W. This Class E airspace area is effective during the specific dates and times established in advance by a Notice to Air Missions. The effective date and time will thereafter be continuously published in the Chart Supplement.

* * * * *

Paragraph 6004 Class E Airspace Designated as an Extension to Class D or E Surface Area.

* * * * *

AEA PA E4 Harrisburg, PA [Amended]

Capital City Airport, PA

(Lat 40°13′02″ N, long 76°51′05″ W)

That airspace extending upward from the surface within 1.8 miles on each side of the Capital City Airport's 251° bearing, extending from the airport's 4-mile radius to 7.5 miles southwest of the airport.

* * * * *

Issued in College Park, Georgia, on August 7, 2023.
Lisa E. Burrows,
Manager, Airspace & Procedures Team South, Eastern Service Center, Air Traffic Organization.

[FR Doc. 2023-17349 Filed 8-11-23; 8:45 am]

BILLING CODE 4910-13-P